NUCLEAR REGULATORY COMMISSION

[Docket Nos. STN 50-528, STN 50-529, and STN 50-530]

Arizona Public Service Company; Palo Verde Nuclear Generating Station, Units 1, 2, and 3 Environmental Assessment and Finding of No Significant Impact

The U.S. Nuclear Regulatory Commission (the Commission) is considering the issuance of amendments to make administrative changes to the Facility Operating Licenses Nos. NPF-41, NPF-51, and NPF-74, issued to Arizona Public Service Company (the licensee) for operation of the Palo Verde Nuclear Generating Station, Units 1, 2, and 3, located in Maricopa County, Arizona.

Environmental Assessment

Identification of the Proposed Action

The proposed action would remove or correct outdated administrative information and remove completed licensing conditions from the licenses. The proposed action is in accordance with the licensee's application for amendments request dated December 1, 1999.

The Need for the Proposed Action

The proposed action is needed to update the Palo Verde operating licenses by removing or correcting outdated administrative information and removing completed license conditions from the licenses. This will help reduce any potential for misinterpreting the operating licensing requirements. The Palo Verde licenses were issued by the Commission to permit the operation of Palo Verde, Units 1, 2, and 3. The operating licenses include administrative information and references that were valid at the time of issuance but are now outdated. In addition, the operating licenses include many license conditions that were required by the Commission to operate Palo Verde plants but have since been completed and are no longer required. The changes consist of 21 changes to the Unit 1 license, 15 changes to the Unit 2 license, and 7 changes to the Unit 3 license.

Environmental Impacts of the Proposed Action

The Commission has completed its evaluation of the proposed action and concludes that the proposed action is administrative in nature and unrelated to plant operations.

The proposed action will not significantly increase the probability or consequences of accidents, no changes are being made in the types of any effluents that may be released offsite, and there is no significant increase in occupational or public radiation exposure. Therefore, there are no significant radiological impacts associated with the proposed action.

With regard to potential nonradiological impacts, the proposed action does not involve any historic sites. It does not affect nonradiological plant effluents and has no other environmental impact. Therefore, there are no significant nonradiological environmental impacts associated with the proposed action.

Accordingly, the Commission concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

The proposed action does not involve the use of any resources not previously considered in the Final Environmental Statement Related to the Operation of Palo Verde Nuclear Generating Station, Units 1, 2, and 3, dated February 1982 (NUREG-0841).

Agencies and Persons Consulted

In accordance with its stated policy, on August 24, 2000, the staff consulted with the Arizona State official, Mr. William Wright of the Arizona Radiation Protection Agency, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's application dated December 1, 1999 (ML993430261), which is available for public inspection at the Commission's Public Document Room, located at One White Flint North, 11555 Rockville Pike (first floor), Rockville, Maryland. Publicly available records will be accessible electronically from the ADAMS Public Library component on the NRC Web site, (the Electronic Reading Room). http:\\www.nrc.gov.

Dated at Rockville, Maryland, this 22nd day of September 2000.
For the Nuclear Regulatory Commission.
Steven D. Bloom,
Project Manager, Section 2, Project Directorate IV & Decommissioning, Division of Licensing Project Management, Office of Nuclear Reactor Regulation.

[FR Doc. 00-25034 Filed 9-28-00; 8:45 am]

BILLING CODE 7590-01-P